DEPARTMENT OF COMMERCE

International Trade Administration

(A-489-807)

Certain Steel Concrete Reinforcing Bars from Turkey; Preliminary Results and Partial Rescission of Antidumping Duty Administrative Review and Notice of Intent To Revoke in Part

AGENCY: Import Administration, International Trade Administration, Department of Commerce.

SUMMARY: In response to a request by the petitioners and two producers/exporters of the subject merchandise, the Department of Commerce (the Department) is conducting an administrative review of the antidumping duty order on certain steel concrete reinforcing bars (rebar) from Turkey. This review covers four producers/exporters of the subject merchandise to the United States. This is the sixth period of review (POR), covering April 1, 2003, through March 31, 2004.

We have preliminarily determined that one of the respondents, Habas Tibbi ve Sinai Gazlar Istihsal Endustrisi A.S. (Habas), has made sales below normal value (NV). If these preliminary results are adopted in the final results of this review, we will instruct U.S. Customs and Border Protection (CBP) to assess antidumping duties on all appropriate entries. In addition, we have preliminarily determined to rescind the review with respect to the following companies because these companies had no shipments of subject merchandise during the POR: Cebitas Demir Celik Endustrisi A.S. (Cebitas), Cemtas Celik Makina Sanayi ve Ticaret A.S. (Cemtas), Demirsan Haddecilik Sanayi ve Ticaret A.S. (Demirsan), Ege Celik Endustrisi Sanayi ve Ticaret A.S. (Ege Celik), Ege Metal Demir Celik Sanayi ve Ticaret A.S. (Ege Metal), Ekinciler Holding A.S. and Ekinciler Demir Celik San A.S. (collectively “Ekinciler”), Iskenderun Iron & Steel Works Co. (Iskenderun), Izmir Demir Celik Sanayi A.S. (Izmir), Kaptan Demir Celik Endustrisi ve Ticaret A.S. (Kaptan), Kardemir--Karabuk Demir Celik Sanayi ve Ticaret A.S. (Karabuk), Kroman Celik Sanayi A.S. (Kroman), Kurum Demir Sanayi ve Ticaret Metalenerji A.S. (Kurum), Metas Izmir Metalurji Fabrikasi Turk A.S. (Metas), Nurmet Celik Sanayi ve Ticaret A.S. (Nurmet), Nursan Celik Sanayi ve Haddecilik A.S. (Nursan), Sivas Demir Celik Isletmeleri A.S. (Sivas), Tosyali Demir Celik Sanayi A.S. (Tosyali), and Ucel Haddecilik Sanayi ve Ticaret A.S. (Ucel). Finally, we have preliminarily determined to revoke the antidumping duty order with respect to ICDAS Celik Enerji Tersane ve Ulasim Sanayi, A.S. (ICDAS). We invite interested parties to comment on these preliminary results. Parties who wish to submit comments in this proceeding are requested to submit with each argument: (1) a statement of the issue; and (2) a brief summary of the argument.

EFFECTIVE DATE: May 6, 2005.

FOR FURTHER INFORMATION CONTACT: Irina Itkin or Alice Gibbons, AD/CVD Operations, Office 2, Import Administration, International Trade Administration, U.S. Department of Commerce, 14th Street and Constitution Avenue, NW, Washington, DC, 20230; telephone (202) 482-0656 or (202) 482-0498, respectively.

SUPPLEMENTARY INFORMATION:

Background

On April 1, 2004, the Department published in the Federal Register a notice of “Opportunity To Request Administrative Review” of the antidumping duty order on rebar from Turkey (69 FR 17129). In accordance with 19 CFR 351.213(b)(2), on April 30, 2004, the Department received requests from both Colakoglu and ICDAS to conduct an administrative review of the antidumping duty order on rebar from Turkey. As part of its request, ICDAS also requested that the Department revoke the dumping order with regard to it, in accordance with 19 CFR 351.222(b). In accordance with 19 CFR 351.213(b)(1), on April 30, 2004, the petitioners, Gerdau AmeriSteel Corporation, Commercial Metals Company (SMI Steel Group), and Nucor Corporation, also requested an administrative review for the following 23 producers/exporters of rebar: Cebitas; Cemtas; Colakoglu Metalurji A.S. (Colakoglu); Demirsan; Diler Demir Celik Endustrisi ve Ticaret A.S., Yazici Demir Celik Sanayi ve Ticaret A.S. (Yazici), and Diler Dis Ticaret A.S. (collectively “Diler”); Ege Celik; Ege Metal; Ekinciler; Habas; ICDAS; Iskenderun; Izmir; Kaptan; Kardemir; Kroman; Kurum; Metas; Nurmet; Nursan; Sivas; Tosyali; and Ucel. In May 2004, the Department initiated an administrative review for each of these companies and issued questionnaires to them. See Initiation of Antidumping and Countervailing Duty Administrative Reviews and Request for Revocation in Part, 69 FR 30282 (May 27, 2004). In May and June 2004, the following companies informed the Department that they had no shipments or entries of subject merchandise during the POR: Cebitas, Cemtas, Demirsan, Ege Celik, Ekinciler, Iskenderun, Izmir, Kaptan, Metas, Nurmet, Nursan, Sivas, and Tosyali. We reviewed CBP data and confirmed that there were no entries of subject merchandise from any of these companies. We also confirmed with CBP data that Ege Metal, Karabuk, Kroman, Kurum, and Ucel did not have entries of subject merchandise during the POR. Consequently, in accordance with 19 CFR 351.213(d)(3) and consistent with our practice, we are preliminarily rescinding our review for Cebitas, Cemtas, Demirsan, Ege Celik, Ege Metal, Ekinciler, Iskenderun, Izmir, Kaptan, Karabuk, Kroman, Kurum, Metas, Nurmet, Nursan, Sivas, Tosyali, and Ucel. In July 2004 Colakoglu requested that the Department modify its reporting requirements with respect to its home market sales. Specifically, Colakoglu requested that it be excused from reporting home market sales and cost data for coiled rebar. In its request, Colakoglu stated that it sold only straight-length rebar in the U.S. market and noted that this was produced in a separate facility from coiled rebar. The Department granted Colakoglu's request on July 6, 2004. In August 2004 we received responses to sections A through C of the questionnaire (i.e., the sections regarding sales to the home market and the United States) and section D of the questionnaire (i.e., the section regarding cost of production (COP) and constructed value (CV)) from Colakoglu, Diler, Habas, and ICDAS. On November 4, 2004, the Department postponed the preliminary results of this review until no later than May 2, 2005. See Certain Steel Concrete Reinforcing Bars from Turkey; Notice of Extension of Time Limits for Preliminary Results in Antidumping Duty Administrative Review, 69 FR 65151 (Nov. 10, 2004). From November 2004 through March 2005, we issued supplemental questionnaires to the participating respondents. We received responses to these questionnaires between December 2004 and March 2005. We verified the sales and cost information submitted by ICDAS in February and March 2005.

Scope of the Order

The product covered by this order is all stock deformed steel concrete reinforcing bars sold in straight lengths and coils. This includes all hot-rolled deformed rebar rolled from billet steel, rail steel, axle steel, or low-alloy steel. It excludes (i) plain round rebar, (ii) rebar that a processor has further worked or fabricated, and (iii) all coated rebar. Deformed rebar is currently classifiable in the Harmonized Tariff Schedule of the United States (HTSUS) under item numbers 7213.10.000 and 7214.20.000. The HTSUS subheadings are provided for convenience and customs purposes. The written description of the scope of this proceeding is dispositive.

Period of Review

The POR is April 1, 2003, through March 31, 2004.

Partial Rescission of Review

As noted above, Cebitas, Cemtas, Demirsan, Ege Celik, Ekinciler, Iskenderun, Izmir, Kaptan, Metas, Nurmet, Nursan, Sivas, and Tosyali informed the Department that they had no shipments of subject merchandise to the United States during the POR. We have confirmed this with CBP. Therefore, in accordance with 19 CFR 351.213(d)(3) and consistent with the Department's practice, we are preliminarily rescinding our review with respect to these companies. See, e.g., Certain Steel Concrete Reinforcing Bars From Turkey; Final Results, Rescission of Antidumping Duty Administrative Review in Part, and Determination Not To Revoke in Part, 69 FR 64731, 64732 (Nov. 8, 2004) (2002-2003 Rebar Review) and Certain Steel Concrete Reinforcing Bars From Turkey; Final Results, Rescission of Antidumping Duty Administrative Review in Part, and Determination Not To Revoke in Part, 68 FR 53127, 53128 (Sep. 9, 2003) (2001-2002 Rebar Review). We have also confirmed with CBP that Ege Metal, Karabuk, Kroman, Kurum, and Ucel did not have entries of subject merchandise during the POR. Therefore, in accordance with 19 CFR 351.213(d)(3) and consistent with the Department's practice, we are also preliminarily rescinding our review with respect to Ege Metal, Karabuk, Kroman, Kurum, and Ucel.

Notice of Intent To Revoke, in Part

As noted above, on April 30, 2004, ICDAS submitted a letter to the Department requesting revocation of the antidumping duty order with respect to its sales of the subject merchandise, pursuant to 19 CFR 351.222(b). ICDAS's request was accompanied by a certification that it has sold the subject merchandise at not less than NV during the current POR and will not sell the merchandise at less than NV in the future. ICDAS further certified that it sold the subject merchandise to the United States in commercial quantities for a period of at least three consecutive years. The company also agreed to immediate reinstatement of the antidumping duty order, as long as any exporter or producer is subject to the order, if the Department concludes that, subsequent to the revocation, ICDAS sold the subject merchandise at less than NV.

Pursuant to section 751(d) of the Tariff Act of 1930, as amended (the Act), the Department “may revoke, in whole or in part” an antidumping duty order upon completion of a review under section 751(a) of the Act. While Congress has not specified the procedures the Department must follow in revoking an order, the Department has developed a procedure for revocation that is described in 19 CFR 351.222. Section 351.222(b)(2) of the Department's regulations explains that the Secretary may revoke an antidumping duty order in part if the Secretary concludes, inter alia, that one or more exporters or producers covered by the order have sold the subject merchandise in commercial quantities at not less than NV for a period of at least three consecutive years. See Notice of Final Results of the Antidumping Duty Administrative Review and Determination Not to Revoke the Antidumping Duty Order: Brass Sheet and Strip from the Netherlands, 65 FR 742, 743 (Jan. 6, 2000).

We preliminarily determine that the request from ICDAS meets all of the criteria under 19 CFR 351.222(b). With regard to the criteria of subsection 19 CFR 351.222(b)(2), our preliminary margin calculations show that ICDAS sold rebar at not less than NV during the current review period. See the dumping margins below. In addition, ICDAS sold rebar at not less than NV in the two previous administrative reviews in which it was involved (i.e., ICDAS's dumping margin was zero or de minimis). See 2002-2003 Rebar Review and 2001-2002 Rebar Review.

Based on our examination of the sales data submitted by ICDAS, we preliminarily determine that ICDAS sold the subject merchandise in the United States in commercial quantities in each of the consecutive years cited by ICDAS to support its request for revocation. See the memorandum to the file from Irina Itkin entitled “Analysis of Commercial Quantities for ICDAS Celik Enerji Tersane ve Ulasim Sanayi, A.S.'s Request for Revocation,” dated May 2, 2005. Thus, we preliminarily find that ICDAS had zero or de minimis dumping margins for its last three administrative reviews and sold in commercial quantities in each of these years. Also, we preliminarily determine that application of the antidumping duty order to ICDAS is no longer warranted for the following reasons: (1) the company had zero or de minimis margins for a period of at least three consecutive years; (2) the company has agreed to immediate reinstatement of the order if the Department finds that it has resumed making sales at less than NV; and (3) the continued application of the order is not otherwise necessary to offset dumping. Therefore, we preliminarily determine that ICDAS qualifies for revocation of the order on rebar pursuant to 19 CFR 351.222(b)(2) and that the order with respect to merchandise produced and exported by ICDAS should be revoked. If these preliminary findings are affirmed in our final results, we will revoke this order in part for ICDAS and, in accordance with 19 CFR 351.222(f)(3), terminate the suspension of liquidation for any of the merchandise in question that is entered, or withdrawn from warehouse, for consumption on or after April 1, 2004, and instruct CBP to refund any cash deposits for such entries.

Affiliated Producers

ICDAS has an affiliated rolling mill, Demir Sanayi ve Celik Ticaret ve Sanayi A.S. (Demir Sanayi). ICDAS has argued that, in accordance with 19 CFR 351.401(f), it is appropriate to collapse these entities for purposes of this review because: (1) the two entities have the same shareholders and managers; (2) Demir Sanayi and ICDAS have the same production capacities for rebar; and (3) Demir Sanayi sold rebar in the home market for its own account. Based on the information on the record of this review, we preliminary find that it is appropriate to collapse ICDAS with Demir Sanayi, consistent with our treatment of these entities in the previous segment of this proceeding. For further discussion, see the memorandum to Louis Apple from the team entitled “Concurrence Memorandum,” dated May 2, 2005 (concurrence memo).

Comparisons to Normal Value

To determine whether sales of rebar from Turkey were made in the United States at less than NV, we compared the export price (EP) to the NV. When making comparisons in accordance with section 771(16) of the Act, we considered all products sold in the home market as described in the “Scope of the Order” section of this notice, above, that were in the ordinary course of trade for purposes of determining appropriate product comparisons to U.S. sales. Where there were no sales of identical merchandise in the home market made in the ordinary course of trade, we compared U.S. sales to sales of the most similar foreign like product made in the ordinary course of trade based on the characteristics listed in sections B and C of our antidumping questionnaire, or CV, as appropriate.

Product Comparisons

In accordance with section 771(16) of the Act, we first attempted to compare products produced by the same company and sold in the U.S. and home markets that were identical with respect to the following characteristics: form, grade, size, and American Society for Testing and Materials specification. Where there were no home market sales of foreign like product that were identical in these respects to the merchandise sold in the United States, we compared U.S. products with the most similar merchandise sold in the home market based on the characteristics listed above, in that order of priority.

Export Price

For all U.S. sales made by Colakoglu, Diler, Habas, and ICDAS, we used EP methodology, in accordance with section 772(a) of the Act, because the subject merchandise was sold directly to the first unaffiliated purchaser in the United States prior to importation and constructed export price methodology was not otherwise warranted based on the facts of record. Regarding the date of sale, three of the respondents (i.e., Colakoglu, Habas, and ICDAS) argued in their questionnaire responses that we should use the date of either single-shipment contracts or purchase orders as the date of sale for their U.S. sales in this review. However, we determined that it is appropriate to continue to follow our normal practice of using invoice date as the date of sale for all U.S. sales reported by all of the respondents in this review because the material terms of sale are established on that date. For further discussion, see the concurrence memo.

A. Colakoglu

We based EP on packed prices to the first unaffiliated purchaser in the United States. We made deductions for inspection fees, lashing and loading expenses, demurrage expenses (offset by freight commission revenue, wharfage revenue, despatch revenue, demurrage commission revenue, agency fee revenue, attendance fee revenue, and other freight-related revenue), ocean freight expenses, marine insurance expenses, U.S. customs duties, and U.S. brokerage and handling expenses, where appropriate, in accordance with section 772(c)(2)(A) of the Act.

B. Diler

We based EP on packed prices to the first unaffiliated purchaser in the United States. We made deductions for foreign inland freight expenses, brokerage and handling expenses, loading expenses (including charges for loading supervision), and ocean freight expenses (offset by despatch revenue), where appropriate, in accordance with section 772(c)(2)(A) of the Act. Regarding foreign inland freight expenses, Diler reported that these expenses were provided by an affiliated party. Because Diler was not able to demonstrate that these expenses were charged on an arm's-length basis, we adjusted the reported amounts to be equivalent to the market price. For further discussion, see the concurrence memo.

C. Habas

We based EP on packed prices to the first unaffiliated purchaser in the United States. We made adjustments for billing adjustments. We also made deductions for foreign inland freight expenses, customs overtime fees, forklift charges, loading charges, surveying expenses, and ocean freight expenses, where appropriate, in accordance with section 772(c)(2)(A) of the Act.

D. ICDAS

We based EP on packed prices to the first unaffiliated purchaser in the United States. We made deductions for foreign inland freight expenses, surveying expenses, customs overtime fees, loading expenses, ocean freight expenses, marine insurance expenses, U.S. customs duties, and U.S. brokerage charges, where appropriate, in accordance with section 772(c)(2)(A) of the Act.

Normal Value

A. Home Market Viability

In order to determine whether there is a sufficient volume of sales in the home market to serve as a viable basis for calculating NV (i.e., the aggregate volume of home market sales of the foreign like product is five percent or more of the aggregate volume of U.S. sales), we compared the volume of each respondent's home market sales of the foreign like product to the volume of U.S. sales of subject merchandise, in accordance with section 773(a)(1)(C) of the Act. Based on this comparison, we determined that each respondent had a viable home market during the POR. Consequently, we based NV on home market sales.

For each respondent, in accordance with our practice, we excluded home market sales of non-prime merchandise made during the POR from our preliminary analysis based on the limited quantity of such sales in the home market and the fact that no such sales were made to the United States during the POR. (See, e.g., Final Determinations of Sales at Less Than Fair Value: Certain Hot-Rolled Carbon Steel Flat Products, Certain Cold-Rolled Carbon Steel Flat Products, Certain Corrosion-Resistant Carbon Steel Flat Products, and Certain Cut-to-Length Carbon Steel Plate from Korea, 58 FR 37176, 37180 (July 9, 1993); Certain Steel Concrete Reinforcing Bars From Turkey; Preliminary Results and Partial Rescission of Antidumping Duty Administrative Review and Notice of Intent Not To Revoke in Part, FR 25066, 25066 (May 5, 2004); Certain Steel Concrete Reinforcing Bars From Turkey; Preliminary Results of Antidumping Duty Administrative Review, 67 FR 21634, 21636 (May 1, 2002) (unchanged by the final results); Certain Steel Concrete Reinforcing Bars From Turkey; Final Results of Antidumping Duty Administrative Review, 66 FR 56274 (Nov. 7, 2001) and accompanying Issues and Decision Memorandum at Comment 1.)

B. Affiliated Party Transactions and Arm's-Length Test

Diler and ICDAS made sales of rebar to affiliated parties in the home market during the POR. Consequently, we tested these sales to ensure that they were made at “arm's-length” prices, in accordance with 19 CFR 351.403(c). To test whether the sales to affiliates were made at arm's-length prices, we compared the unit prices of sales to affiliated and unaffiliated customers net of all movement charges, direct selling expenses, and packing expenses. Where the price to that affiliated party was, on average, within a range of 98 to 102 percent of the price of the same or comparable merchandise sold to the unaffiliated parties at the same level of trade (LOT), we determined that the sales made to the affiliated party were at arm's length. See Modification Concerning Affiliated Party Sales in the Comparison Market, 67 FR 69186 (Nov. 15, 2002).

C. Cost of Production Analysis

Pursuant to section 773(b)(2)(A)(ii) of the Act, for Colakoglu, Diler, Habas, and ICDAS, there were reasonable grounds to believe or suspect that these respondents had made home market sales at prices below their COPs in this review because the Department had disregarded sales that failed the cost test for these companies in the most recently completed segment of this proceeding in which these companies participated (i.e., the 2001-2002 administrative review for Habas and the 2002-2003 administrative review for Colakoglu, Diler, and ICDAS). As a result, the Department initiated an investigation to determine whether these companies had made home market sales during the POR at prices below their COPs. See 2001-2002 Rebar Review and 2002-2003 Rebar Review.

In this review, Habas and ICDAS reported their costs on both a quarterly basis and a POR basis. These respondents argued that the Department should base its analysis on their quarterly cost data because the world price of scrap experienced a significant increase during the POR. The Department has used monthly or quarterly costs in non-inflationary cases only when there was a single primary input product and that input experiences a significant and consistent decline or rise in its cost during the reporting period. Conversely, when there are inconsistent fluctuations in both directions we use a single weighted-average cost for the entire POR. See Certain Pasta from Italy; Final Results of Antidumping Duty Administrative Review, 65 FR 77852 (Dec. 13, 2000), and accompanying Issues and Decision Memorandum at Comment 18. In this case, because we do not find that the price of scrap experienced a significant and consistent increase during the POR, we have continued to follow the Department's normal practice of using weighted-average POR costs for all respondents. For further discussion, see the concurrence memo.

1. Calculation of COP

In accordance with section 773(b)(3) of the Act, we calculated COP based on the sum of the respondents' cost of materials and fabrication for the foreign like product, plus amounts for general and administrative (G&A) expenses and interest expenses. See the “Test of Comparison Market Sales Prices” section below for treatment of home market selling expenses.

We relied on the COP information provided by each respondent in its questionnaire responses, except for the following instances where the information was not appropriately quantified or valued:

A. Diler

1. We excluded the value of purchased rebar from the COP database.

2. We disallowed certain income items reported as offsets to G&A expenses because Diler failed to provide an explanation for them, despite the Department's request that it do so.

3. We recalculated the financial expense ratio for Diler based on the company-specific financial statements. However, because the resulting ratios are negative, we set them to zero in accordance with the Department's practice. See Notice of Final Determination of Sales at Less Than Fair Value: Static Random Access Memory Semiconductors from Taiwan, 63 FR 8909, 8933 (Feb. 23, 1998) (SRAMs from Taiwan).

For further discussion of these adjustments, see the memorandum from Ji Young Oh to Neal Halper entitled “Cost of Production and Constructed Value Adjustments for the Preliminary Results - Diler Demir Celik Endustrisi ve Ticaret A.S., Yazici Demir Celik Sanayi ve Ticaret A.S., and Diler Dis Ticaret A.S.,” dated May 2, 2005.

B. Habas

1. We increased the POR weighted-average fixed overhead for each control number to include the difference between the total depreciation expenses recorded in Habas's general ledger and the amount included in the reported costs.

For further discussion of this adjustment, see the memorandum from Alice Gibbons to the file entitled “Calculations performed for Habas Sinai ve Tibbi Gazlar Istihsal Endustrisi A.S. (Habas) for the Preliminary Results in the 2003-2004 Antidumping Duty Administrative Review on Certain Steel Concrete Reinforcing Bars from Turkey,” dated May 2, 2005.

2. Because the financial expense ratio for Habas is negative, we set it to zero in accordance with the Department's practice. See SRAMs from Taiwan, 63 FR at 8933.

C. ICDAS

1. We adjusted ICDAS's reported cost of manufacturing to include an unreconciled difference between the POR total cost of manufacturing recorded in the company's accounting system and the total cost of manufacturing reported in the COP/CV file.

2. We increased the POR weighted-average total cost of manufacturing of each control number as follows: a) we eliminated a credit for recycled scrap because this amount was overstated; b) we included the difference between the total depreciation expenses recorded in ICDAS's general ledger and the amount included in the reported costs; and c) we disallowed the claimed start-up adjustment for ICDAS's Biga melt shop.

3. We recalculated the weighted-average material costs for rebar in coil and consequently adjusted the weighted-average total cost of manufacturing for several products.

4. We recalculated ICDAS's submitted G&A expense ratio as follows: a) we included in the numerator expenses that are non-deductible for tax purposes and a contingent liability related to a legal dispute; b) we excluded from the numerator rental income received from the rental of a vessel and income related to the reversal of prior period expenses; c) we adjusted the gain on the sale of a vessel to an affiliated company to reflect a market price, in accordance with section 773(f)(2) of the Act; and d) we excluded from the denominator the total 2003 scrap sales used as an offset in the calculation of the reported costs, as well as adjustments for depreciation and start-up costs.

5. We adjusted the reported total cost of sales used as the denominator of the financial expense ratio to exclude the total 2003 scrap sales used as an offset to the reported costs, as well as the adjustments to depreciation expenses and start-up costs noted in items 2.b. and c., above. Because the ratio remains negative, we set it to zero in accordance with the Department's practice. See SRAMs from Taiwan, 63 FR at 8933.

For further discussion of these adjustments, see the memorandum from Ji Young Oh to Neal Halper entitled “Cost of Production and Constructed Value Adjustments for the Preliminary Results,” dated May 2, 2005.

2. Test of Home Market Sales Prices

We compared the weighted-average COP figures to home market prices of the foreign like product, as required under section 773(b) of the Act, in order to determine whether these sales had been made at prices below the COP. On a product-specific basis, we compared the COP to home market prices, less any applicable movement charges, selling expenses, and packing expenses. In determining whether to disregard home market sales made at prices below the COP, we examined whether such sales were made: (1) in substantial quantities within an extended period of time; and (2) at prices which permitted the recovery of all costs within a reasonable period of time. See sections 773(b)(2)(B), (C), and (D) of the Act.

3. Results of the COP Test

Pursuant to section 773(b)(2)(C)(i) of the Act, where less than 20 percent of a respondent's sales of a given product were at prices less than the COP, we did not disregard any below-cost sales of that product because we determined that the below-cost sales were not made in “substantial quantities.” Where 20 percent or more of a respondent's sales of a given product were at prices below the COP, we found that sales of that model were made in “substantial quantities” within an extended period of time (as defined in section 773(b)(2)(B) of the Act), in accordance with section 773(b)(2)(C)(i) of the Act. In such cases, we also determined that such sales were not made at prices which would permit recovery of all costs within a reasonable period of time, in accordance with section 773(b)(2)(D) of the Act. Therefore, for purposes of this administrative review, we disregarded these below-cost sales for Colakoglu, Diler, Habas, and ICDAS and used the remaining sales as the basis for determining NV, in accordance with section 773(b)(1) of the Act.

D. Level of Trade

In accordance with section 773(a)(1)(B) of the Act, to the extent practicable, we determine NV based on sales in the comparison market at the same LOT as EP. The NV LOT is that of the starting-price sales in the comparison market or, when NV is based on CV, that of the sales from which we derive selling, G&A expenses, and profit. For EP, the U.S. LOT is also the level of the starting-price sale, which is usually from the exporter to the unaffiliated U.S. customer.

To determine whether NV sales are at a different LOT than EP sales, we examine stages in the marketing process and selling functions along the chain of distribution between the producer and the unaffiliated customer. If the comparison-market sales are at a different LOT and the difference affects price comparability, as manifested in a pattern of consistent price differences between the sales on which NV is based and comparison-market sales at the LOT of the export transaction, we make an LOT adjustment under section 773(a)(7)(A) of the Act.

All respondents claimed that they made home market sales at only one LOT. We analyzed the information on the record for each company and found that three of the respondents, Colakoglu, Diler, and Habas, performed essentially the same marketing functions in selling to all of their home market and U.S. customers, regardless of customer category (e.g., end-user, distributor). Therefore, we determine that these sales are at the same LOT. We further determine that no LOT adjustment is warranted for these respondents.

Regarding ICDAS, we found that this company performs additional selling functions on certain home market sales. Specifically, we found that ICDAS performs an additional layer of selling functions on its sales through affiliated distributors which are not performed on its sales to unaffiliated customers. Because these additional selling functions are significant, we find that ICDAS's sales through affiliated distributors are at a different LOT than its direct sales to unaffiliated parties. We further find that the LOT for U.S. sales is the same as the home market LOT for ICDAS's direct sales to unaffiliated parties because the selling functions performed by ICDAS are essentially the same in both markets. Consequently, we compared ICDAS's EP sales to sales at the same LOT in the home market (i.e., ICDAS's direct home market sales). For further discussion, see the concurrence memo. Because all comparisons were made at the same LOT, no LOT adjustment is warranted.

E. Calculation of Normal Value

1. Colakoglu

We based NV on the starting prices to home market customers. For those home market sales negotiated in U.S. dollars, we used the U.S.-dollar price, rather than the Turkish lira (TL) price adjusted for kur farki (i.e., an adjustment to the TL invoice price to account for the difference between the estimated and actual TL value on the date of payment), because the only price agreed upon was a U.S.-dollar price, and this price remained unchanged; the buyer merely paid the TL-equivalent amount at the time of payment. This treatment is consistent with our treatment of these transactions in the most recently completed segment of this proceeding. See Certain Steel Concrete Reinforcing Bars From Turkey; Preliminary Results and Partial Rescission of Antidumping Duty Administrative Review and Notice of Intent Not To Revoke in Part, 69 FR 25063, 25067 (May 5, 2004) (unchanged in the final results). Where appropriate, we made deductions from the starting price for foreign inland freight expenses, in accordance with section 773(a)(6)(B) of the Act.

Pursuant to section 773(a)(6)(C)(iii) of the Act and 19 CFR 351.410(c), we made circumstance-of-sale adjustments for credit expenses (offset by interest revenue), bank charges, exporter association fees, and commissions. Regarding commissions, Colakoglu incurred commissions only in relation to U.S. sales. Therefore, pursuant to 19 CFR 351.410(e), we offset U.S. commissions by the lesser of the commission amount or home market indirect selling expenses. We deducted home market packing costs and added U.S. packing costs, in accordance with section 773(a)(6) of the Act.

Where appropriate, we made adjustments to NV to account for differences in physical characteristics of the merchandise, in accordance with section 773(a)(6)(C)(ii) of the Act and 19 CFR 351.411. We based this adjustment on the difference in the variable costs of manufacturing for the foreign like product and subject merchandise. See 19 CFR 351.411(b).

2. Diler

We based NV on the starting prices to home market customers. For those home market sales negotiated in U.S. dollars, we used the U.S.-dollar price, rather than the TL price adjusted for kur farki, because the only price agreed upon was a U.S.-dollar price, and this price remained unchanged. For further discussion, see above. Where appropriate, we made deductions from the starting price for foreign inland freight expenses, in accordance with section 773(a)(6)(B) of the Act.

Pursuant to section 773(a)(6)(C)(iii) of the Act and 19 CFR 351.410(c), we made circumstance-of-sale adjustments for credit expenses, bank fees, and exporter association fees.

We deducted home market packing costs and added U.S. packing costs, in accordance with section 773(a)(6) of the Act.

Where appropriate, we made adjustments to NV to account for differences in physical characteristics of the merchandise, in accordance with section 773(a)(6)(C)(ii) of the Act and 19 CFR 351.411. We based this adjustment on the difference in the variable costs of manufacturing for the foreign like product and subject merchandise. See 19 CFR 351.411(b).

3. Habas

We based NV on the starting prices to home market customers. For those home market sales negotiated in U.S. dollars, we used the U.S.-dollar price, rather than the TL price adjusted for kur farki, because the only price agreed upon was a U.S.-dollar price, and this price remained unchanged. For further discussion, see above. Where appropriate, we made deductions from the starting price for foreign inland freight expenses, in accordance with section 773(a)(6)(B) of the Act.

Pursuant to section 773(a)(6)(C)(iii) of the Act and 19 CFR 351.410(c), we made circumstance-of-sale adjustments for credit expenses, exporter association fees, and commissions.Regarding commissions, Habas incurred commissions only in relation to U.S. sales. Therefore, pursuant to 19 CFR 351.410(e), we offset U.S. commissions by the lesser of the commission amount or home market indirect selling expenses. We deducted home market packing costs and added U.S. packing costs, in accordance with section 773(a)(6) of the Act.

Where appropriate, we made adjustments to NV to account for differences in physical characteristics of the merchandise, in accordance with section 773(a)(6)(C)(ii) of the Act and 19 CFR 351.411. We based this adjustment on the difference in the variable costs of manufacturing for the foreign like product and subject merchandise. See 19 CFR 351.411(b).

4. ICDAS

We based NV on the starting prices to home market customers. For those home market sales negotiated in U.S. dollars, we used the U.S.-dollar price, rather than the TL price adjusted for kur farki, because the only price agreed upon was a U.S.-dollar price, and this price remained unchanged. For further discussion, see above. Where appropriate, we made deductions from the starting price for foreign inland freight expenses, in accordance with section 773(a)(6)(B) of the Act.

Pursuant to section 773(a)(6)(C)(iii) of the Act and 19 CFR 351.410(c), we made circumstance-of-sale adjustments for credit expenses, bank charges, and exporter association fees. We deducted home market packing costs and added U.S. packing costs, in accordance with section 773(a)(6) of the Act.

Where appropriate, we made adjustments to NV to account for differences in physical characteristics of the merchandise, in accordance with section 773(a)(6)(C)(ii) of the Act and 19 CFR 351.411. We based this adjustment on the difference in the variable costs of manufacturing for the foreign like product and subject merchandise. See 19 CFR 351.411(b).

Currency Conversion

We made currency conversions into U.S. dollars pursuant to sections 773A(a) of the Act and 19 CFR 351.415. Although the Department's preferred source for daily exchange rates is the Federal Reserve Bank, the Federal Reserve Bank does not track or publish exchange rates for Turkish Lira. Therefore, we made currency conversions based on exchange rates from the Dow Jones Reuters Business Interactive LLC (trading as Factiva).

Preliminary Results of the Review

We preliminarily determine that the following margins exist for the respondents during the period April 1, 2003, through March 31, 2004:

Manufacturer/Producer/Exporter | Margin Percentage
Colakoglu Metalurji A.S. | 0.01
Diler Demir Celik Endustrisi ve Ticaret A.S.,
Yazici Demir Celik Sanayi ve Ticaret A.S.,
and Diler Dis Ticaret A.S. | 0.33
Habas Sinai ve Tibbi Gazlar Istithsal Endustrisi A.S. | 26.07
ICDAS Celik Enerji Tersane ve Ulasim Sanayi, A.S. | 0.47

The Department will disclose to parties the calculations performed in connection with these preliminary results within five days of the date of publication of this notice. Interested parties may request a hearing within 30 days of publication. Any hearing, if requested, will be held two days after the date rebuttal briefs are filed. Pursuant to 19 CFR 351.309, interested parties may submit cases briefs not later than 30 days after the date of publication of this notice. Rebuttal briefs, limited to issues raised in the case briefs, may be filed not later than 37 days after the date of publication of this notice. The Department will issue the final results of the administrative review, including the results of its analysis of issues raised in any such written comments, within 120 days of publication of these preliminary results.

Upon completion of the administrative review, the Department shall determine, and CBP shall assess, antidumping duties on all appropriate entries. Pursuant to 19 CFR 351.212(b)(1), for all of Habas's sales and certain of ICDAS's sales, because we have the reported entered value of the U.S. sales, we have calculated importer-specific assessment rates based on the ratio of the total amount of antidumping duties calculated for the examined sales to the total entered value of those sales.

Regarding all of Colakoglu's and Diler's sales, as well as certain of ICDAS's sales, we note that these companies did not report the entered value for the U.S. sales in question. Accordingly, we have calculated importer-specific assessment rates for the merchandise in question by aggregating the dumping margins calculated for all U.S. sales to each importer and dividing this amount by the total quantity of those sales. To determine whether the duty assessment rates were de minimis, in accordance with the requirement set forth in 19 CFR 351.106(c)(2), we calculated importer-specific ad valorem ratios based on the EPs.

Pursuant to 19 CFR 351.106(c)(2), we will instruct CBP to liquidate without regard to antidumping duties any entries for which the assessment rate is de minimis (i.e., less than 0.50 percent). The Department will issue appraisement instructions directly to CBP.

We are preliminarily revoking the order with respect to ICDAS's exports of subject merchandise. If this revocation becomes final, we will instruct CBP to terminate the suspension of liquidation for exports of such merchandise entered, or withdrawn from warehouse, for consumption on or after April 1, 2004, and to refund all cash deposits collected.

Further, the following deposit requirements will be effective for all shipments of rebar from Turkey entered, or withdrawn from warehouse, for consumption on or after the publication date of the final results of this administrative review, as provided for by section 751(a)(2)(C) of the Act: 1) the cash deposit rates for the reviewed companies will be the rates established in the final results of this review, except if the rate is less than 0.50 percent and, therefore, de minimis within the meaning of 19 CFR 351.106(c)(1), the cash deposit will be zero; 2) for previously investigated companies not listed above, the cash deposit rate will continue to be the company-specific rate published for the most recent period; 3) if the exporter is not a firm covered in this review, or the less than fair value (LTFV) investigation, but the manufacturer is, the cash deposit rate will be the rate established for the most recent period for the manufacturer of the merchandise; and 4) the cash deposit rate for all other manufacturers or exporters will continue to be 16.06 percent, the All Others rate established in the LTFV investigation. These deposit requirements, when imposed, shall remain in effect until publication of the final results of the next administrative review.

This notice serves as a preliminary reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

We are issuing and publishing these results of review in accordance with sections 751(a)(1) and 777(i)(1) of the Act.

Dated: May 2, 2005.
Joseph A. Spetrini,
Acting Assistant Secretary for Import Administration.

[FR Doc. E5-2222 Filed 5-5-05; 8:45 am]

BILLING CODE 3510-DS-S